DEPARTMENT OF ENERGY

Energy Information Administration

Agency Information Collection Activities: Submission for OMB Review; Comment Request

AGENCY: Energy Information Administration (EIA), Department of Energy (DOE).

ACTION: Agency Information Collection Activities: Submission for OMB Review; Comment Request.

SUMMARY: The EIA has submitted the form OE-781R, “Monthly Electricity Imports and Exports Report” to the Office of Management and Budget (OMB) for review and comment of a proposed three-year extension under section 3507(h)(1) of the Paperwork Reduction Act of 1995 (Pub. L. 104-13) (44 U.S.C. 3501 et seq.).

DATES: Comments must be filed by August 5, 2009. If you anticipate that you will be submitting comments but find it difficult to do so within that period, you should contact the OMB Desk Officer for DOE listed below as soon as possible.

ADDRESSES: Send comments to Christine Kymn, OMB Desk Officer for DOE, Office of Information and Regulatory Affairs, Office of Management and Budget. To ensure receipt of the comments by the due date, submission by FAX at 202-395-7285 or e-mail to Christine_J._Kymn@omb.eop.gov is recommended. The mailing address is 726 Jackson Place, NW., Washington, DC 20503. The OMB DOE Desk Officer may be telephoned at (202) 395-4650. (A copy of your comments should also be provided to EIA's Statistics and Methods Group at the address below.)

FOR FURTHER INFORMATION CONTACT: Requests for additional information should be directed to Grace Sutherland. To ensure receipt of the comments by the due date, submission by FAX (202-586-5271) or e-mail (grace.sutherland@eia.doe.gov) is also recommended. The mailing address is Statistics and Methods Group (EI-70), Forrestal Building, U.S. Department of Energy, 1000 Independence Ave., SW., Washington, DC 20585-0670. Ms. Sutherland may be contacted by telephone at (202) 586-6264.

SUPPLEMENTARY INFORMATION: This section contains the following information about the energy information collection submitted to OMB for review: (1) OMB No. OE-781R, “Monthly Electricity Imports and Exports Report”; (2) Sponsor: Office of Electricity Delivery and Energy Reliability (OE); (3) Current OMB docket number: 1901-0296; (4) Type of request: three-year extension; (5) Response obligation: Mandatory; (6) Purpose: OE-781R collects electrical import/export data from entities authorized to export electric energy, and from entities holding Presidential Permits to construct, connect, operate, or maintain facilities for the transmission of electric energy at an international boundary as required by 10 CFR 205.308 and 205.325. The data are used by Fossil Energy to monitor the levels of electricity imports and exports and are also used by EIA for publication. (7) Respondents: Holders of Presidential Permits are required to report; and (8) Estimate of the total annual reporting burden: 3,656 hours.

Please refer to the supporting statement as well as the proposed forms and instructions for more information about the purpose, who must report, when to report, where to submit, the elements to be reported, detailed instructions, provisions for confidentiality, and uses (including possible nonstatistical uses) of the information. For instructions on obtaining materials, see the FOR FURTHER INFORMATION CONTACT section.

Statutory Authority: 10 CFR 205.308, 10 CFR 205.325, and Section 3507(h)(1) of the Paperwork Reduction Act of 1995 (Pub. L. 104-13, 44 U.S.C. Chapter 35).

Issued in Washington, DC, June 30, 2009.
Renee H. Miller,
Director, Forms Clearance and Information Quality Division, Statistics and Methods Group, Energy Information Administration.

[FR Doc. E9-15912 Filed 7-2-09; 8:45 am]

BILLING CODE P